ENVIRONMENTAL PROTECTION AGENCY

[ER-FRL-9057-2]

Environmental Impact Statements; Notice of Availability

Responsible Agency: Office of Federal Activities, General Information 202-564-5632 or https://www.epa.gov/nepa.

Weekly receipt of Environmental Impact Statements (EIS)

Filed June 21, 2021 10 a.m. EST Through June 28, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210084, Final, NMFS, ME, Regulatory Impact Review and Final Regulatory Flexibility Analysis for Amending the Atlantic Large Whale Take Reduction Plan: Risk Reduction Rule, Review Period Ends: 08/02/2021, Contact: Jennifer Anderson 978-281-9226.

EIS No. 20210085, Final, BLM, CO, Blue Valley Ranch Land Exchange, Review Period Ends: 08/02/2021, Contact: William Mills 970-724-3001.

EIS No. 20210086, Draft, FERC, LA, East Lateral Xpress Project, Comment Period Ends: 08/16/2021, Contact: Office of External Affairs 866-208-3372.

Amended Notice

EIS No. 20210047, Draft Supplement, FHWA, KS, South Lawrence Trafficway, Comment Period Ends: 09/30/2021, Contact: Javier Ahumada 785-273-2649. Revision to FR Notice Published 05/07/2021; Extending the Comment Period from 06/21/2021 to 09/30/2021.

Dated: June 28, 2021.
Cindy S. Barger,
Director, NEPA Compliance Division, Office of Federal Activities.

[FR Doc. 2021-14172 Filed 7-1-21; 8:45 am]

BILLING CODE 6560-50-P